SMALL BUSINESS ADMINISTRATION

[Declaration of Disaster # 10001]

State of Maryland

Allegany County and the contiguous counties of Garrett and Washington in the State of Maryland; Bedford, Fulton, and Somerset Counties in the Commonwealth of Pennsylvania; and Hampshire, Mineral, and Morgan Counties in the State of West Virginia constitute a disaster area as a result of heavy rains caused by the remnants of Hurricane Frances and Hurricane Ivan that occurred on September 6, 2004. Applications for loans for physical damage as a result of the disaster may be filed until the close of business on January 18, 2005, and for economic injury until the close of business on August 16, 2005, at the address listed below or other locally announced locations: U.S. Small Business Administration, Disaster Area 1 Office, 360 Rainbow Blvd., South 3rd Floor, Niagara Falls, NY 14303.

The interest rates are:

| Percent
For Physical Damage:
Homeowners with credit available elsewhere | 6.375
Homeowners without credit available elsewhere | 3.187
Businesses with credit available elsewhere | 5.800
Businesses and non-profit organizations without credit available elsewhere | 2.900
Others (including non-profit organizations) with credit available elsewhere | 4.875
For Economic Injury:
Businesses and small agricultural cooperatives without credit available elsewhere | 2.900

The number assigned to this disaster for physical damage is 10001 for Maryland, Pennsylvania, and West Virginia. The number assigned to this disaster for economic injury is 10002 for Maryland, Pennsylvania, and West Virginia.

(Catalog of Federal Domestic Assistance Program Nos. 59002 and 59008.)

Dated: November 16, 2004.
Hector V. Barreto,
Administrator.

[FR Doc. 04-26016 Filed 11-23-04; 8:45 am]

BILLING CODE 8025-01-P